DEPARTMENT OF ENERGY

Federal Energy Regulatory Commission

[Docket No. CP08-428-000]

Venice Gathering System, LLC; Notice of Filing

June 19, 2008.

Take notice that on June 18, 2008, Venice Gathering System, LLC (VGS), 1000 Louisiana, Suite 4300, Houston, Texas 77002, filed an application, pursuant to Section 7(b) of the Natural Gas Act (NGA) and Part 157 of the Commission's Rules and Regulations, requesting approval of the abandonment in-place of certain pipeline facilities currently operating as part of its offshore pipeline system, in Venice, Louisiana (VGS Lateral). The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The VGS Lateral is a 20-inch pipeline, 26.2 miles in length, from the South Timbalier 35-D Platform to a subsurface tie-in at the 26-inch pipeline in Grand Isle 71. The abandonment of the VGS Lateral also includes smaller laterals attached to the VGS Laterals. The VGS Lateral has deteriorated significantly, and was significantly damaged by Hurricane Rita in 2005. The facilities are no longer required by VGS to meet its service obligations, and all shippers who received service on the facilities during the last 18 months have consented to the proposed abandonment. The VGS Lateral will be flushed to remove all hydrocarbons and will be filled with inhibited seawater prior to final abandonment in-place.

Any questions regarding the application are to be directed to Cary F. Loughman, Venice Gathering System, LLC, 1000 Louisiana, Suite 4300, Houston, TX 77002; phone number (783) 584-1523 or by e-mail at cloughman@targaresources.com.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: July 3, 2008.

Kimberly D. Bose,
Secretary.

[FR Doc. E8-14447 Filed 6-25-08; 8:45 am]

BILLING CODE 6717-01-P